GENERAL SERVICES ADMINISTRATION

48 CFR Parts 547 and 552

[GSAR Case 2006-G518; Docket 2008-0007; Sequence 6]

RIN 3090-AI52

General Services Acquisition Regulation; GSAR Case 2006-G518; Rewrite of GSAR Part 547, Transportation

AGENCY: Office of the Chief Acquisition Officer, General Services Administration (GSA).

ACTION: Proposed rule with request for comments.

SUMMARY: The General Services Administration (GSA) is proposing to amend the General Services Acquisition Regulation (GSAR) to revise GSAR language that provides requirements for transportation. This rule is a result of the General Services Administration Acquisition Manual (GSAM) Rewrite initiative undertaken by GSA to revise the GSAM to maintain consistency with the FAR, and to implement streamlined and innovative acquisition procedures that contractors, offerors and GSA contracting personnel can use when entering into and administering contractual relationships. The GSAM incorporates the General Services Administration Acquisition Regulation (GSAR) as well as internal agency acquisition policy. GSA will rewrite each part of the GSAR and GSAM, and as each GSAR part is rewritten, will publish it in the Federal Register.

This is one of the series of revisions to 48 CFR Chapter 5. It covers the rewrite of GSAR Part 547, Transportation.

DATES: Interested parties should submit written comments to the Regulatory Secretariat on or before August 5, 2008 to be considered in the formulation of a final rule.

ADDRESSES: Submit comments identified by GSAR Case 2006-G518 by any of the following methods:

• Regulations.gov: http://www.regulations.gov.

Submit comments via the Federal eRulemaking portal by inputting “GSAR Case 2006-G518” under the heading “Comment or Submission”. Select the link “Send a Comment or Submission” that corresponds with GSAR Case 2006-G518. Follow the instructions provided to complete the “Public Comment and Submission Form”. Please include your name, company name (if any), and “GSAR Case 2006-G518” on your attached document.

• Fax: 202-501-4067.

• Mail: General Services Administration, Regulatory Secretariat (VPR), 1800 F Street, NW., Room 4041, ATTN: Laurieann Duarte, Washington, DC 20405.

Instructions: Please submit comments only and cite GSAR Case 2006-G518 in all correspondence related to this case. All comments received will be posted without change to http://www.regulations.gov, including any personal and/or business confidential information provided.

FOR FURTHER INFORMATION CONTACT: For clarification of content, contact Jeritta Parnell at (202) 501-4082, or by e-mail at jeritta.parnell@gsa.gov. For information pertaining to the status or publication schedules, contact the Regulatory Secretariat (VPR), Room 4041, GS Building, Washington, DC 20405, (202) 501-4755. Please cite GSAR Case 2006-G518.

SUPPLEMENTARY INFORMATION:

A. Background

The GSAR Rewrite Project

On February 15, 2006, GSA published an Advance Notice of Proposed Rulemaking (ANPR) with request for comments because GSA is beginning the review and update of the General Services Administration Acquisition Regulation (GSAR).

The GSAR rewrite will—

• Consider comments received from the ANPR, published in the Federal Register at 71 FR 7910, February 15, 2006.

• Change “you” to “contracting officer.”

• Maintain consistency with the FAR but eliminate duplication.

• Revise GSAR sections that are out of date, or impose inappropriate burdens on the Government or contractors, especially small businesses.

• Streamline and simplify by incorporation of all GSA acquisition policies, i.e., acquisition letters, alerts, and FAS manual information.

In addition, GSA has recently reorganized into two, rather than three services. Therefore, the reorganization of the Federal Supply Service (FSS) and the Federal Technology Service (FTS) into the Federal Acquisition Service (FAS) will be considered in the rewrite initiative.

The Rewrite of Part 547

This proposed rule contains the revisions made to Part 547, Transportation. The information contained in the five sections; 547.300, 547.303, 547.304, 547.305, and 547.370 is proposed for deletion from Part 547. In addition, clauses 552.247-70, Placarding Railcar Shipments, and 552.247-71, Diversion of Shipment Under f.o.b. Destination Contracts, are proposed for deletion from 552.547. This information is deemed specific to the FAS organization and its special order program and stock program. This information is not used in the Multiple Award Schedule Program. The coverage and the clauses were evaluated and deemed not necessary for inclusion into the GSAR. The FAR coverage in 47.103, 47.3, and 52.243-1 (48 CFR Chapter 1) is sufficient and does not need to be supplemented by further information in the GSAR.

Discussion of Comments

As a result of the ANPR, GSA received one comment pertaining to GSAR Part 547.

One commenter suggested making the GSAR consistent with the FAR and to eliminate inconsistencies and redundancies between the FAR and GSAR. The commenter further provided an example of a FAR deviation used under a Federal Supply Schedule 70, stating “that GSA should consider whether the various delivery and packaging requirements can be simplified and require delivery and packaging that comports with the contractor's standard commercial practices.” GSA partially agrees with the commenter and has initiated this rewrite of the GSAM/GSAR to correct or clarify such inconsistencies. However, GSA believes that in this instance cited by the commenter, that the risk of loss or damage to supplies shall remain with the contractor until the Government takes possession of the supplies, as specified f.o.b. origin or destination, whichever the contract so states.

This is not a significant regulatory action and, therefore, was not subject to review under Section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because the rule will delete information and clauses that are deemed unnecessary. An Initial Regulatory Flexibility Analysis has, therefore, not been performed. We invite comments from small businesses and other interested parties. GSA will consider comments from small entities concerning the affected GSAR Parts 547 and 552 in accordance with 5 U.S.C. 610. Interested parties must submit such comments separately and should cite 5 U.S.C. 601, et seq. (GSAR case 2006-G518), in correspondence.

C. Paperwork Reduction Act

The Paperwork Reduction Act does not apply because the proposed changes to the GSAM do not impose information collection requirements that require the approval of the Office of Management and Budget under 44 U.S.C. 3501, et seq.

List of Subjects in 48 CFR Parts 547 and 552

Government procurement.

Dated: June 2, 2008.
Al Matera,
Director, Office of Acquisition Policy, General Services Administration.

Therefore, GSA proposes to amend 48 CFR parts 547 and 552 as set forth below:

1. The authority citation for 48 CFR parts 547 and 552 is revised to read as follows:

AUTHORITY: 40 U.S.C. 121(c).

PART 547 [RESERVED]

2. Part 547 is removed and reserved.

PART 552—SOLICITATION PROVISIONS AND CONTRACT CLAUSES

552.247-70 [Removed]

3. Section 552.247-70 is removed.

552.247-71 [Removed]

4. Section 552.247-71 is removed.

[FR Doc. E8-12694 Filed 6-5-08; 8:45 am]

BILLING CODE 6820-61-S